DEPARTMENT OF ENERGY

Federal Energy Regulatory Commission

[Docket Nos. CP14-120-000;CP14-119-000]

Lake Charles LNG Company, LLC; Trunkline Gas Company, LLC; Notice of Request for Extension of Time

Take notice that on January 31, 2022, Lake Charles LNG Company, LLC (Lake Charles LNG); Lakes Charles LNG Export Company, LLC (Lake Charles LNG Export); and Trunkline Gas Company, LLC (Trunkline; collectively, the Applicants), requested that the Federal Energy Regulatory Commission (Commission) grant an extension of time, until December 16, 2028, to complete construction of the Liquefaction Project and the Pipeline Modifications Project (collectively, the Project) and make the Project available for service as authorized in the December 17, 2015 Order Granting Section 3 and Section 7 Authorizations and Approving Abandonment (Order).¹

¹ Lake Charles LNG Company, LLC, et al., 153 FERC ¶ 61,300 (2015), reh'g denied, 155 FERC ¶ 61,328 (2016) (Order).

The Liquefaction Project is an export project, consisting of three liquefaction trains, with a total design production capacity of 16.45 metric tons per annum of liquefied natural gas (LNG) and appurtenances, to be located adjacent to Lake Charles LNG's existing LNG terminal in Calcasieu Parish, Louisiana (Terminal); and modifications and installation of certain facilities at the Terminal. The Pipeline Modifications Project consist of the (1) construction of approximately 17.9 miles of pipeline; (2) construction of a new compressor station; (3) installation of additional compression at the Longville Compressor Station; (4) construction of five new meter stations; (5) piping modifications at four compressor stations; and (6) construction/modifications of various appurtenances, all located in Arkansas, Mississippi, and Louisiana.

The Order required Trunkline to complete construction of the Pipeline Modifications Project and make it available for service within four years of the date of the Order; the Order further required Lake Charles LNG and Lake Charles LNG Export to complete construction of the Liquefaction Project and make it available for service within five years of the date of the Order.² On December 5, 2019, the Applicants were granted their request for an extension for both projects, until December 16, 2025, to complete construction and place the Project into service.³ The Applicants state that global market conditions have impacted its ability to reach a final investment decision and secure long-term offtake contracts, thus they now request an additional three years, until December 16, 2028, to complete construction of the Project and place it into service.

² Order, 153 FERC ¶ 61,300 at Ordering Paragraphs (B)(1) and (L), respectively.

³ Letter Order to Trunkline Gas Company, LLC; Lake Charles LNG Company, LLC; and Lake Charles LNG Export Company, LLC; Docket Nos. CP14-119-000, CP14-120-000, and CP14-122-000 (issued December 5, 2019) (Letter Order).

This notice establishes a 15-calendar day intervention and comment period deadline. Any person wishing to comment on the Applicants' request for an extension of time may do so. No reply comments or answers will be considered. If you wish to obtain legal status by becoming a party to the proceedings for this request, you should, on or before the comment date stated below, file a motion to intervene in accordance with the requirements of the Commission's Rules of Practice and Procedure (18 CFR 385.214 or 385.211) and the Regulations under the Natural Gas Act (18 CFR 157.10).

As a matter of practice, the Commission itself generally acts on requests for extensions of time to complete construction for Natural Gas Act facilities when such requests are contested before order issuance. For those extension requests that are contested,⁴ the Commission will aim to issue an order acting on the request within 45 days.⁵ The Commission will address all arguments relating to whether the applicant has demonstrated there is good cause to grant the extension.⁶ The Commission will not consider arguments that re-litigate the issuance of the certificate order, including whether the Commission properly found the project to be in the public convenience and necessity and whether the Commission's environmental analysis for the certificate complied with the National Environmental Policy Act.⁷ At the time a pipeline requests an extension of time, orders on certificates of public convenience and necessity are final and the Commission will not re-litigate their issuance.⁸ The OEP Director, or his or her designee, will act on all of those extension requests that are uncontested.

⁴ Contested proceedings are those where an intervenor disputes any material issue of the filing. 18 CFR 385.2201(c)(1) (2019).

⁵ Algonquin Gas Transmission, LLC, 170 FERC ¶ 61,144, at P 40 (2020).

⁶ Id. at P 40.

⁷ Similarly, the Commission will not re-litigate the issuance of an NGA section 3 authorization, including whether a proposed project is not inconsistent with the public interest and whether the Commission's environmental analysis for the permit order complied with NEPA.

⁸ Algonquin Gas Transmission, LLC, 170 FERC ¶ 61,144, at P 40 (2020).

In addition to publishing the full text of this document in the Federal Register, the Commission provides all interested persons an opportunity to view and/or print the contents of this document via the internet through the Commission's Home Page (http://www.ferc.gov) using the “eLibrary” link. Enter the docket number excluding the last three digits in the docket number field to access the document. At this time, the Commission has suspended access to Commission's Public Reference Room, due to the proclamation declaring a National Emergency concerning the Novel Coronavirus Disease (COVID-19), issued by the President on March 13, 2020. For assistance, contact FERC at FERCOnlineSupport@ferc.gov or call toll-free, (886) 208-3676 or TYY, (202) 502-8659.

The Commission strongly encourages electronic filings of comments, protests and interventions in lieu of paper using the “eFile” link at http://www.ferc.gov. Persons unable to file electronically may mail similar pleadings to the Federal Energy Regulatory Commission, 888 First Street NE, Washington, DC 20426. Hand delivered submissions in docketed proceedings should be delivered to Health and Human Services, 12225 Wilkins Avenue, Rockville, Maryland 20852.

Comment Date: 5:00 p.m. Eastern Time on February 18, 2022.

Dated: February 3, 2022.
Kimberly D. Bose,
Secretary.

[FR Doc. 2022-02701 Filed 2-8-22; 8:45 am]

BILLING CODE 6717-01-P